DEPARTMENT OF THE INTERIOR

Bureau of Land Management

[ID-010-0777-XQ]

Notice of Meeting

AGENCY: Lower Snake River District, Bureau of Land Management, Interior.

ACTION: Meeting notice.

SUMMARY: The Lower Snake River District Resource Advisory Council will meet in Boise to discuss management of Off-Highway Vehicles, sage grouse habitat management, grazing allotment assessments and other issues.

DATES: November 13, 2000. The meeting will begin at 9 AM. Public comment periods will be held at 9:30 AM and 3:30 PM.

ADDRESS: The meeting will be held at the Lower Snake River District Office, located at 3948 Development Avenue, Boise, Idaho.

FOR FURTHER INFORMATION CONTACT: Barry Rose, Lower Snake River District Office (208-384-3393).

Dated: September 22, 2000.
Katherine Kitchell,
District Manager.

[FR Doc. 00-24981 Filed 9-28-00; 8:45 am]

BILLING CODE 4310-GG-P